DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 23, 2007.

Interested persons are invited to submit written comments regarding the subject matter of the investigations to the Director, Division of Trade Adjustment Assistance, at the address shown below, not later than July 23, 2007.

The petitions filed in this case are available for inspection at the Office of the Director, Division of Trade Adjustment Assistance, Employment and Training Administration, U.S. Department of Labor, Room C-5311, 200 Constitution Avenue, NW., Washington, DC 20210.

Signed at Washington, DC, this 3rd day of July 2007.
Ralph Dibattista,
Director, Division of Trade Adjustment Assistance.

Appendix.—TAA Petitions Instituted Between 6/25/07 and 6/29/07
TA-W | Subject firm (petitioners) | Location | Date of institution | Date of petition
61734 | Taylor Togs, Inc. (Wkrs) | Micaville, NC | 06/25/07 | 06/15/07
61735 | Dolby Labs Licensing (State) | San Francisco, CA | 06/25/07 | 06/22/07
61736 | Jones Co. Ltd. (Wkrs) | Humboldt, TN | 06/25/07 | 06/13/07
61737 | Champion Parts, Inc. (State) | Hope, AR | 06/25/07 | 06/22/07
61738 | Simplicity Pattern Company, Inc. (Comp) | Niles, MI | 06/25/07 | 06/22/07
61739 | Solectron, Ltd (State) | Ponce, PR | 06/25/07 | 06/22/07
61740 | Continental Tire North America, Inc. (Comp) | Charlotte, NC | 06/25/07 | 06/25/07
61741 | Ameriwood Industries, Inc. (Comp) | Dowagiac, MI | 06/25/07 | 06/19/07
61742 | Sypris Technologies, Corp (State) | Kenton, OH | 06/25/07 | 06/22/07
61743 | Risdon International, Inc.—Watertown (State) | Watertown, CT | 06/25/07 | 06/22/07
61744 | Risdon International, Inc.—Danbury (State) | Danbury, CT | 06/25/07 | 06/22/07
61745 | Ampac Fine Chemicals (State) | Rancho Cordova, CA | 06/25/07 | 06/21/07
61746 | Carolina Warp Print, Inc. (Comp) | Gastonia, NC | 06/26/07 | 06/26/07
61747 | Kimball Electronics (Comp) | Gaylord, MI | 06/26/07 | 06/24/07
61748 | The Apparel Group/Foxcroft Sportswear (Comp) | Fall River, MA | 06/26/07 | 06/25/07
61749 | Syroco Industries (State) | Siloam Springs, AR | 06/26/07 | 06/25/07
61750 | Data Trace Information (State) | Santa Ana, CA | 06/26/07 | 06/19/07
61751 | Tyco Electronics Corporation (Comp) | Reading, PA | 06/26/07 | 06/25/07
61752 | WestPPoint Home (Wkrs) | Clemson, SC | 06/26/07 | 06/22/07
61753 | WestPoint Home Inc./Bath Products Division (Comp) | Wagram, NC | 06/26/07 | 06/25/07
61754 | IBM Corporation (Wkrs) | Rochester, MN | 06/27/07 | 06/25/07
61755 | Troxel Products LLC dba Flexible Flyer (Wkrs) | West Point, MS | 06/27/07 | 06/25/07
61756 | Rogers Corporation (State) | Chandler, AZ | 06/27/07 | 06/26/07
61757 | Efore USA Inc (Comp) | Irving, TX | 06/28/07 | 06/13/07
61758 | Credence Speakers, Inc. (Wkrs) | Kevil, KY | 06/28/07 | 06/21/07
61759 | Agilent Technologies, Inc. (Comp) | Loveland, CO | 06/28/07 | 06/26/07
61760 | Hutchinson Technology Inc. (State) | Eau Claire, WI | 06/28/07 | 06/21/07
61761 | MJJ Brilliant (Wkrs) | New York, NY | 06/28/07 | 06/23/07
61762 | St. Anthony's Health Center (State) | Alton, IL | 06/28/07 | 06/27/07
61763 | Unicare c/o Wellpoint Company (Wkrs) | Bolingbrook, IL | 06/29/07 | 06/28/07
61764 | Victor Forstmann, Inc. (Comp) | East Dublin, GA | 06/29/07 | 06/28/07
61765 | Convergy's Information Management Group (Wkrs) | Wilkes-Barre, PA | 06/29/07 | 05/30/07
61766 | Comtec Manufacturing Inc. (Comp) | St. Mary's, PA | 06/29/07 | 06/28/07
61767 | Outsource Partners International OPI (Wkrs) | Houston, TX | 06/29/07 | 06/28/07
61768 | QST Industries, Inc. (Comp) | Mocksville, NC | 06/29/07 | 06/28/07

[FR Doc. E7-13395 Filed 7-10-07; 8:45 am]

BILLING CODE 4510-FN-P